DEPARTMENT OF STATE

[Public Notice 6254]

Defense Trade Advisory Group; Notice of Meetings June 19, 2008

SUMMARY: On June 4, 2008, a Federal Register Notice (73 FR 31908) was published announcing the Defense Trade Advisory Group's (DTAG's) open meeting on June 19, 2008 from 9 a.m. to 12 noon in the East Auditorium at the U.S. Department of State, Harry S. Truman Building, Washington, DC. This notice serves to announce the closed meeting being held from 8 a.m. to 9 a.m. as well as the purpose and topics for discussion of the June 19th meetings.

DATES: There will be two meetings held the morning of June 19. The first meeting will be held from 8 a.m. to 9 a.m. and is for DTAG-members only. A second meeting will be held from 9 a.m. to 12 noon and is open to the public.

ADDRESSES: Both meetings on June 19th will be held in the East Auditorium at the U.S. Department of State, Harry S. Truman Building, Washington DC. DTAG members and non-member observers are required to pre-register due to security reasons; for further information regarding pre-registration requirements please see the notice published on June 4, 2008 (73 FR 31908).

FOR FURTHER INFORMATION CONTACT: Members of the public who need additional information regarding these meetings or the DTAG should contact the DTAG Executive Secretariat contact person, Allie Frantz, PM/DDTC, SA-1, 12th Floor, Directorate of Defense Trade Controls, Bureau of Political-Military Affairs, U.S. Department of State, Washington, DC 20522-0112; telephone (202) 736-9220; FAX (202) 261-8199; or e-mail FrantzA@state.gov.

SUPPLEMENTARY INFORMATION:

(a) Background

The membership of this advisory committee consists of private sector defense trade representatives, appointed by the Assistant Secretary of State for Political-Military Affairs, who advise the Department on policies, regulations, and technical issues affecting defense trade. Individuals interested in defense trade issues are invited to attend the open session and will be able to participate in the discussion in accordance with the Chair's instructions. Members of the public may, if they wish, submit a brief statement to the committee in writing.

June 19, 2008, 8 a.m. to 9 a.m. Meeting—The purpose of this DTAG-members only meeting is to provide the new DTAG membership for the 2008-2010 term an overview of administrative procedures, and to conclude other preparatory work. The meeting will be closed in accordance with 41 CFR 102-3.160. Individuals who have been appointed to the DTAG for the 2008-2010 term have already been notified.

June 19, 2008, 9 a.m. to 12 noon Meeting—Topics for discussion and assigned time frames are as follows: Self-Financing Options available for the Directorate of Defense Trade Controls 0900-1000; UK-US Defense Trade Cooperation Treaty Implementing Regulations—1000-1100; and the new USML Category VIII regulations implementing Section 17(c) of the Export Administration Act (EAA)—1100-1230.

(b) Availability of Materials for the Meetings

Please visit the Directorate of Defense Trade Controls' Web site at http://pmddtc.state.gov/index.htm for any available materials pertaining to the topics for discussion. Draft Federal Register Notices on the DTAG topics of discussion will be posted on the PM/DDTC Web site under the DTAG tab no later than June 12, 2008.

(c) Procedures for Providing Public Comments

The DTAG will accept written public comments as well as oral public comments. Comments should be relevant to the topics for discussion. Public participation at the open meeting will be based on recognition by the chair and may not exceed 5 minutes per speaker. Written comments should be sent to the DTAG Executive Secretariat contact person not later than June 17, 2008 so that the comments may be made available to the DTAG members for consideration. Written comments should be supplied to the DTAG Executive Secretariat contact person at the mailing address or e-mail provided above, in Adobe Acrobat or Word format. Note: The DTAG operates under the provisions of the Federal Advisory Committee Act, as amended; all public comments will be treated as public documents and will be made available for public inspection, and might be posted on DDTC's Web site.

(d) Meeting Accommodations

Individuals requiring special accommodation to access the open meeting referenced above should contact Ms. Frantz at least five business days prior to the meeting so that appropriate arrangements can be made.

Dated: June 9, 2008.
Robert S. Kovac,
Designated Federal Official, Defense Trade Advisory Group, Department of State.

[FR Doc. E8-13374 Filed 6-12-08; 8:45 am]

BILLING CODE 4710-25-P